DEPARTMENT OF THE TREASURY

Submission for OMB Review; Comment Request

May 14, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 19, 2008 to be assured of consideration.

Financial Crimes Enforcement Network (FinCEN)

OMB Number: 1506-0009.

Type of Review: Extension.

Title: Financial Record-keeping and Reporting and Report of Foreign Bank and Financial Accounts.

Description: The Bank Secrecy Act authorizes Treasury to require financial institutions and individuals to keep records and file reports that the Treasury determines have a high degree of usefulness in criminal, tax, or regulatory matters, or to protect against international terrorism.

Respondents: Individuals or households.

Estimated Total Reporting Burden: 10,942,392 hours.

OMB Number: 1506-0043.

Type of Review: Extension.

Title: Correspondent Accounts for Foreign Shell Banks; Record keeping and Termination of Correspondent Accounts.

Description: These rules prohibit domestic financial institutions from maintaining correspondent accounts with foreign shell banks and require such institutions to maintain records of the owners, and agents, for service of legal process of foreign banks.

Respondents: Businesses and other for-profit institutions, and not-for-profit institutions.

Estimated Total Reporting Burden: 306,000 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Robert Dahl,
Treasury PRA Clearance Officer.

[FR Doc. E8-11211 Filed 5-19-08; 8:45 am]

BILLING CODE 4810-02-P